ENVIRONMENTAL PROTECTION AGENCY

[EPA-HQ-OAR-2007-0265; FRL-9307-7]

Agency Information Collection Activities; Submission to OMB for Review and Approval; Comment Request; PM2.5 National Ambient Air Quality Standard Implementation (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted later, describes the nature of the information collection and its estimated burden and cost.

DATES: Additional comments may be submitted on or before June 23, 2011.

ADDRESSES: Submit your comments, referencing Docket ID No. EPA-HQ-OAR-2007-0265, to (1) EPA online using http://www.regulations.gov (our preferred method), by e-mail to a-and-r-docket@epamail.epa.gov, or by mail to: EPA Docket Center, Environmental Protection Agency, Air and Radiation Docket, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Butch Stackhouse, Air Quality Policy Division, Office of Air Quality Planning and Standards, (Mail Code C539-01), Environmental Protection Agency, 1200 Pennsylvania Ave., NW., Washington, DC 20460; telephone number: (919) 541-5208; fax number: (919) 541-0824; e-mail address: stackhouse.butch@epa.gov; or Karl Pepple, Air Quality Policy Division, Office of Air Quality Planning and Standards, (Mail Code C539-01), Environmental Protection Agency, 1200 Pennsylvania Ave., NW., Washington, DC 20460; telephone number: (919) 541-2683; fax number: (919) 541-0824; e-mail address: pepple.karl@epa.gov.

SUPPLEMENTARY INFORMATION: EPA has submitted the following ICR to OMB for review and approval according to the procedures prescribed in 5 CFR 1320.12. On February 2, 2011 (76 FR 5801), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-OAR-2007-0265, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: PM2.5 National Ambient Air Quality Standard Implementation (Renewal).

ICR numbers: EPA ICR No. 2258.02, OMB Control No. 2060-0611.

ICR Status: This ICR is scheduled to expire on May 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The purpose of this ICR is to assess the burden (in hours and dollars) of the 1997 and 2006 PM2.5 NAAQS as well as associated the periodic reporting and record keeping. The ICR addresses requirements that involve collecting information from states with areas that have been designated nonattainment for the PM2.5 NAAQS.

The time period covered in this ICR is a 3 year period from June 1, 2011 through May 31, 2014. The milestones for the state or local air agency respondents include the required State Implementation Plan (SIP) elements prescribed in the Clean Air Act (CAA) sections 110 and part D, subpart 1 of title I for Implementation plans and the requirements in the PM2.5 NAAQS Implementation Rule (40 CFR 51.1000—51.1012). The PM2.5 SIP will contain rules and other requirements designed to achieve the NAAQS by the deadlines established under the CAA, and it also contains a demonstration that the state's requirements will in fact result in attainment. The SIP must meet the requirements in subpart 1 to adopt Reasonable Available Control Measures, Reasonable Available Control Technology, and provide for Reasonable Further Progress toward attainment for the period prior to the area's attainment date. However, not all of the milestones and associated burden and administrative cost estimates apply to every designated PM2.5 nonattainment area. Areas with cleaner air quality have fewer requirements.

Burden Statement: The annual public reporting and recordkeeping burden for this collection of information is estimated to average 317 hours per response for the 1997 PM2.5 NAAQS, and 4,243 hours per response for the 2006 PM2.5 NAAQS. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are states and Regional offices.

Estimated Number of Respondents: 39.

Frequency of Response: Annual.

Estimated Total Annual Hour Burden: 175,400.

Estimated Total Annual Cost: $11,418,540 million in labor costs. There are no annualized capital or O&M costs.

Changes in the Estimates: There is a decrease of 34,600 hours in the total estimated burden currently identified in the OMB Inventory of Approved ICR Burdens. This decrease reflects EPA's information that the number of non-attainment areas for the 1997 PM2.5 standard has decreased as areas have come into compliance with the standards and that the burden associated with the remaining non-attainment areas is less because of the work they have done previously to comply with the standards. At the same time, promulgation of the 2006 PM2.5 standard led to designations of new areas as non-attainment, leading to an increased burden on those respondents.

Dated: May 12, 2011.
John Moses,
Director, Collection Strategies Division.

[FR Doc. 2011-12789 Filed 5-23-11; 8:45 am]

BILLING CODE 6560-50-P